DEPARTMENT OF COMMERCE

International Trade Administration

Applications for Duty-Free Entry of Scientific Instruments

Pursuant to Section 6(c) of the Educational, Scientific and Cultural Materials Importation Act of 1966 (Pub. L. 89-651, as amended by Public Law 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before August 21, 2008. Address written comments to Statutory Import Programs Staff, Room 2104, U.S. Department of Commerce, Washington, DC 20230. Applications may be examined between 8:30 a.m. and 5 p.m. at the U.S. Department of Commerce in Room 2104.

Docket Number: 08-022. Applicant: National Renewable Energy Laboratory, 1617 Cole Blvd., Golden, CO 80401. Instrument: Electron Microscope, Model Quanta 600 FEG. Manufacturer: FEI Company, Czech Republic. Intended Use: The instrument is intended to be used to study the microstructure and composition of material used in photovoltaic (solar cell) applications (mostly semiconductor materials). It will also be used to characterize a variety of nano-structured materials such as quantum dots and carbon nanotubes. Application accepted by Commissioner of Customs: May 8, 2008.

Docket Number: 08-025. Applicant: Oklahoma State University, 203 Whitehurst, Stillwater, OK 74078-3011. Instrument: Electron Microscope, Model Quanta 600 FEG. Manufacturer: FEI Company, Czech Republic. Intended Use: This instrument will be used to study the basic properties of various types of nanomaterials. Specifically, the instrument is intended to be used to investigate microbial interactions with geologic media, including the role of microbial nanowires in geoelectrical properties of biostimulated sediments. Application accepted by Commissioner of Customs: May 9, 2008.

Docket Number: 08-028. Applicant: National Renewable Energy Laboratory, 1617 Cole Blvd., Golden, CO 80401. Instrument: Electron Microscope, Model NOVA 630 NanoSEM. Manufacturer: FEI Company, Czech Republic. Intended Use: The instrument is intended to be used to study the microstructure and composition of material used in photovoltaic (solar cell) applications, mostly semiconductor materials. It will also be used to characterize a variety of nano-structured materials such as quantum dots and carbon nanotubes. Application accepted by Commissioner of Customs: June 12, 2008.

Docket Number: 08-031. Applicant: University of Rochester Medical Center, 575 Elmwood Avenue, Box 626, Rochester, NY 14642. Instrument: Electron Microscope, Hitachi H-7650. Manufacturer: Hitachi High-Technologies Corp., Japan. Intended Use: The instrument is intended to be used to perform nanotoxicology experiments on biological tissues and cells. Specifically, the instrument will be used to find and confirm the presence of nanoparticle elements in biological tissue. Application accepted by Commissioner of Customs: June 19, 2008.

Docket Number: 08-035. Applicant: Washington State University, French Administration Building, 220, P.O. Box 641020, Pullman, Washington 99164-1020. Instrument: Electron Microscope, Model FEI Quanta 200. Manufacturer: FEI Company, Czech Republic. Intended Use: The instrument is intended to be used for several purposes, including the following: Researching the cell biology of certain plant tissue (e.g., the phloem) and studying plant systematics and evolution, researching particle and microbial material surface interactions, and studying the physical chemistry of polymers and composites. Application accepted by Commissioner of Customs: July 3, 2008.

Docket Number: 08-037. Applicant: Duke University, 2351 Erwin Rd., Durham, NC 27710. Instrument: Electron Microscope, Model JEM-1400. Manufacturer: JEOL, Ltd., Japan. Intended Use: The instrument is intended to be used for ultra structural analysis and immunolocalization of proteins. The experiment aims at defining the ultra structures of normal and diseased tissues of the visual system and at the localization of specific proteins important for function within the tissues, in an effort to preserve and restore sight. Application accepted by Commissioner of Customs: July 18, 2008.

Dated: July 29, 2008.
Faye Robinson,
Director, Statutory Import Programs Staff.

[FR Doc. E8-17702 Filed 7-31-08; 8:45 am]

BILLING CODE 3510-DS-P